DEPARTMENT OF ENERGY

Federal Energy Regulatory Commission

Notice of Application for Non-Project Use of Project Lands and Soliciting Comments, Motions To Intervene, and Protests

December 6, 2006.

Take notice that the following application has been filed with the Commission and is available for public inspection:

a. Application Type: Non-Project Use of Project Lands and Waters.

b. Project No: 2413-083.

c. Date Filed: November 1, 2006.

d. Applicant: Georgia Power Company (GPC).

e. Name of Project: Wallace Dam Project.

f. Location: The proposed development is located on Lake Oconee in Greene County, Georgia. This project does not occupy any Federal or tribal lands.

g. Filed Pursuant to: Federal Power Act, 16 U.S.C. 791(a)-825(r) and 799 and 801.

h. Applicant Contact: Mr. Lee B. Glenn, Georgia Power Company, 125 Wallace Dam Road NE, Eatonton, GA 31024, (706) 485-8704.

i. FERC Contact: Gina Krump, gina.krump@ferc.gov, 202-502-6704.

j. Deadline for filing comments and or motions: January 8, 2007.

All documents (original and eight copies) should be filed with Ms. Magalie R. Salas, Secretary, Federal Energy Regulatory Commission, 888 First Street, NE., Washington, DC 20426. Comments, protests, and interventions may be filed electronically via the Internet in lieu of paper. See, 18 CFR 385.2001(a)(1)(iii) and the instructions on the Commission's Web site under the “e-Filing” link. Please reference “Wallace Dam Project, FERC Project No. 2413-083” on any comments or motions filed.

k. Description of Request: GPC is seeking Commission approval to permit the construction of a 30-slip marina (26 boat slips and four refueling slips), a boat lift launch, and a boat ramp on approximately 1.2 acres of project land. Each slip will be five feet wide by 24 feet long along approximately 540 feet of shoreline. A seawall and rip-rap to stabilize the shoreline of the marina is also being proposed. The marina is being proposed in conjunction with a residential development and will be designed for use by the community residents.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments—Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E6-21094 Filed 12-11-06; 8:45 am]

BILLING CODE 6717-01-P